FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue, NW, Washington DC 20551-0001, not later than February 27, 2024.

A. Federal Reserve Bank of St. Louis (Holly A. Rieser, Senior Manager) P.O. Box 442, St. Louis, Missouri 63166-2034. Comments can also be sent electronically to Comments.applications@stls.frb.org:

1. Bennie F. Ryburn, III, Ray Morrison Ryburn, Marion B. Ryburn, and Halley A. Ryburn, all of Monticello, Arkansas; Angelia D. Ryburn, Wilmar, Arkansas; Margaret Anne Ryburn, Atlanta, Georgia; and Madison A. Ryburn, Dallas, Texas; to join the Ryburn Family Control Group, a group acting in concert, to retain voting shares of Drew Bancshares, Inc., and thereby indirectly retain voting shares of Commercial Bank & Trust Company, both of Monticello, Arkansas.

2. The Michael F. Bender Revocable Living Trust dated February 10, 2023, and The Diane M. Bender Revocable Living Trust dated February 10, 2023, Michael F. Bender and Diane M. Bender as co-trustees of both trusts, all of Farmington, Missouri; to retain voting shares of Midwest Regional Bancorp, Inc., Festus, Missouri, and thereby indirectly retain voting shares of Midwest Regional Bank, Clayton, Missouri.

A. Federal Reserve Bank of Kansas City (Jeffrey Imgarten, Assistant Vice President) 1 Memorial Drive, Kansas City, Missouri, 64198-0001. Comments can also be sent electronically to KCApplicationComments@kc.frb.org:

1. Daniel J. Murphy, Elkhorn, Nebraska; to join the Murphy Family Control Group, a group acting in concert, to acquire voting shares of Ameriwest Corporation, and thereby indirectly acquire voting shares of First Westroads Bank, Inc., both of Omaha, Nebraska.

Board of Governors of the Federal Reserve System.
Michele Taylor Fennell,
Deputy Associate Secretary of the Board.

[FR Doc. 2024-02848 Filed 2-12-24; 8:45 am]

BILLING CODE P